DEPARTMENT OF THE INTERIOR

Bureau of Land Management

[WO-220-1050-PF-01-24 1A]

Extension of Approved Information Collection, OMB Number 1004-0182

AGENCY: Bureau of Land Management, Interior.

ACTION: Notice and request for comments.

SUMMARY: In accordance with the Paperwork Reduction Act of 1995, the Bureau of Land Management (BLM) is announcing its intention to request extension of an existing approval to collect certain information from Alaska Natives interested in conducting reindeer grazing activities on BLM administered lands. This information allows BLM to begin the assessment of the compatibility of reindeer grazing on public lands with multiple-use objectives (43 CFR 4300).

DATES: You must submit your comments to BLM at the appropriate address below on or before February 16, 2001. BLM will not necessarily consider any comments received after the above date.

ADDRESSES: Comment may be mailed to: Regulatory Affairs Group (630), Bureau of Land Management, 1849 C Street NW, Room 401LS, Washington, DC 20240.

Comments may be sent via Internet to: WOComment@blm.gov. Please include “ATTN: 1004-0182” your name and return address in your Internet message.

Comments may be hand-delivered to the Bureau of Land Management, Administrative Record, Room 401, 1620 L street, NW, Washington, DC.

Comments will be available for public review at the L Street address during regular business hours (7:45 a.m. to 4:15 p.m.), Monday through Friday.

FOR FURTHER INFORMATION CONTACT: Larry Field, BLM Northern Field Office, on (907) 474-2343 (Commercial or FTS). Persons who use a telecommunications device for the deaf (TDD) may call the Federal Information Relay Service (FIRS) at 1-800-877-8330, 24 hours a day, seven days a week, to contact Mr. Field.

SUPPLEMENTARY INFORMATION: 5 CFR 1320.12(a) requires BLM to provide 60-day notice in the Federal Register concerning a collection of information contained in regulations found in 43 CFR 2812 to solicit comments on (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et seq.

The Act of September 1, 1937 (50 Stat. 900; 25 U.S.C. 500 et seq.) authorizes the Secretary of the Interior to manage the reindeer industry in Alaska to maintain a self-sustaining industry for Natives of Alaska. The Act also authorizes the Secretary to issue permits to those Natives for grazing reindeer on public lands. The implementing regulations at 43 CFR 4300 authorize Alaska Natives to apply to BLM for permits to graze reindeer and to construct improvements on the land.

The Grazing Lease or Permit Application (Form 4210-1) and the Reindeer Grazing Permit (Form 4132-2) are designed to record all information required under 43 CFR 4300.20 and 43 CFR 4300.57. BLM uses the information provided by the applicant(s) and permittee(s) to determine whether applicant qualifies to receive a reindeer grazing permit and whether permittee meets the specified terms and conditions of the granted permit.

Based on BLM's experience administering the activities described above, the public reporting burden for the information collected estimates to average 1 hour per application and 15 minutes for the permit. The respondents are Alaska Natives. The frequency of response is once every 5 years for the renewal applications and once per year for the reindeer grazing permits. The estimated number of responses per year totals 18. The estimated total annual burden is 23 hours (5 hours annual burden on permittees and 18 hours to apply for the renewal of existing reindeer grazing permits). BLM specifically requests your comments on its estimate of the amount of time that it takes to prepare a response.

BLM will summarize all responses to this notice and include them in the request for Office of Management and Budget approval. All comments will also become a matter of public record.

Dated: December 12, 2000.
Michael Schwartz,
BLM Information Collection Clearance Officer.

[FR Doc. 00-32004 Filed 12-15-00; 8:45 am]

BILLING CODE 4310-84-M